DEPARTMENT OF HEALTH AND HUMAN SERVICES

Centers for Disease Control and Prevention

[30Day-16-1061]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Behavioral Risk Factor Surveillance System (BRFSS) (OMB Control No. 0920-1061, exp. 3/31/2018)—Revision—National Center for Chronic Disease Prevention and Health Promotion (NCCDPHP)—Centers for Disease Control and Prevention (CDC).

Background and Brief Description

CDC is requesting OMB approval to revise information collection for the Behavioral Risk Factor Surveillance System (BRFSS). The BRFSS is a nationwide system of annual, cross-sectional telephone health surveys sponsored by CDC. BRFSS coordinators in health departments in U.S. states, territories, and the District of Columbia (collectively referred to as states) collaborate with CDC on questionnaire content and survey administration.

An independent sample of adult, non-institutionalized respondents is drawn each for each state and is based on the state's parameters for state-level or sub-state analysis. Each state's annual questionnaire is based on a common core that is administered by all states. In addition, CDC provides support for standardized optional modules that states can use to collect customized content. Information collection is conducted in a continuous, three-part telephone interview process: Screening, participation in core BRFSS questions, and participation in the optional question modules. Both the core survey and the optional modules are updated annually.

CDC requests OMB approval to incorporate a limited annual field test into the BRFSS clearance. Field testing will be conducted approximately 5-8 months in advance of the principal BRFSS survey. Field tests are used to identify problems with new or updated questions, instrument documentation or instructions, software errors, or other implementation issues. Field tests are typically conducted in one state. Addition of the annual field test will increase the estimated annualized number of responses by 900 and the estimated annualized burden by 382 hours. These estimates include allocations for both respondent screening and completion of the field test survey. Each year CDC will use the Change Request mechanism to request OMB approval of the annual Field Test Supplement.

CDC and the states will continue to use BRFSS data to produce state-level information about adults 18 years and older. BRFSS topics include health risk behaviors, health conditions, and preventive health practices that are associated with chronic diseases, infectious diseases, and injury. This information is used by state and local health departments to plan and evaluate public health programs at the state or sub-state level. In addition, CDC makes annual BRFSS data sets available for public use and provides guidance on statistically appropriate uses of the data.

Field test results will not be incorporated into the analytic data sets. Field test results are used exclusively to inform the development of the upcoming year's BRFSS questionnaire and the technical assistance that CDC provides to states.

OMB approval is requested for three years. Participation in the BRFSS is voluntary and there are no costs to respondents other than their time. The total estimated annualized burden hours are 256,297.

Estimated Annualized Burden Hours
Type of respondents | Form name | Number of respondents | Number of responses per respondent | Average burden per response (in hr)
U.S. General Population | Landline Screener | 440,486 | 1 | 1/60
| Cell Phone Screener | 223,334 | 1 | 1/60
| Field Test Screener | 400 | 1 | 1/60
Adults ≥18 Years | Core Survey | 494,650 | 1 | 15/60
| Optional Modules | 484,757 | 1 | 15/60
| Field Test Survey | 500 | 1 | 45/60

Leroy A. Richardson,
Chief, Information Collection Review Office, Office of Scientific Integrity, Office of the Associate Director for Science, Office of the Director, Centers for Disease Control and Prevention.

[FR Doc. 2016-09189 Filed 4-20-16; 8:45 am]

BILLING CODE 4163-18-P